GOVERNMENT ACCOUNTABILITY OFFICE

Physician-focused Payment Model Technical Advisory Committee Nomination Letters

AGENCY: Government Accountability Office (GAO).

ACTION: Notice on letters of nomination of candidates.

SUMMARY: The Medicare Access and CHIP Reauthorization Act of 2015 established the Physician-Focused Payment Model Technical Advisory Committee to provide comments and recommendations to the Secretary of Health and Human Services on physician payment models, and gave the Comptroller General responsibility for appointing the committee's 11 members. The Advisory Committee members shall include individuals with national recognition for their expertise in physician-focused payment models and related delivery of care. No more than 5 members of the Committee shall be providers of services or suppliers, or representatives of providers of services or suppliers. A member of the committee shall not be an employee of the federal government.

GAO is accepting nominations of individuals for this committee. For appointments to be made in October 2015, I am announcing the following: Letters of nomination and resumes should be submitted by July 22, 2015 to ensure adequate opportunity for review and consideration of nominees. Acknowledgement of submissions will be provided within two weeks of submission. Please contact Mary Giffin at (202) 512-3710 if you do not receive an acknowledgement.

ADDRESSES: Email: PTACcommittee@gao.gov.

Mail: ATTN: PTAC Appointments, U.S. GAO, 441 G Street NW., Washington, DC 20548.

FOR MORE INFORMATION CONTACT: GAO Office of Public Affairs, (202) 512-4800.

Authority: Pub. L. 114-10, § 101(e), 129 Stat. 87, 115 (2015).

Gene L. Dodaro,
Comptroller General of the United States.

[FR Doc. 2015-13983 Filed 6-8-15; 8:45 am]

BILLING CODE 1610-02-M